POSTAL REGULATORY COMMISSION

[Docket Nos. MC2025-731 and K2025-730; MC2025-732 and K2025-731; MC2025-733 and K2025-732; MC2025-734 and K2025-733; MC2025-735 and K2025-734; MC2025-736 and K2025-735; MC2025-737 and K2025-736; MC2025-738 and K2025-737; MC2025-739 and K2025-738; MC2025-740 and K2025-739; MC2025-741 and K2025-740; MC2025-742 and K2025-741; MC2025-743 and K2025-742; MC2025-744 and K2025-743; MC2025-745 and K2025-744; MC2025-746 and K2025-745; MC2025-747 and K2025-746; MC2025-748 and K2025-747; MC2025-749 and K2025-748; MC2025-750 and K2025-749; MC2025-751 and K2025-750; MC2025-752 and K2025-751; MC2025-753 and K2025-752; MC2025-754 and K2025-753; MC2025-755 and K2025-754; MC2025-756 and K2025-755; MC2025-757 and K2025-756; MC2025-758 and K2025-757]

New Postal Products

AGENCY: Postal Regulatory Commission.

ACTION: Notice.

SUMMARY: The Commission is noticing a recent Postal Service filing for the Commission's consideration concerning a negotiated service agreement. This notice informs the public of the filing, invites public comment, and takes other administrative steps.

DATES: Comments are due: December 18, 2024.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction

II. Public Proceeding(s)

III. Summary Proceeding(s)

I. Introduction

Pursuant to 39 CFR 3041.405, the Commission gives notice that the Postal Service filed request(s) for the Commission to consider matters related to Competitive negotiated service agreement(s). The request(s) may propose the addition of a negotiated service agreement from the Competitive product list or the modification of an existing product currently appearing on the Competitive product list.

The public portions of the Postal Service's request(s) can be accessed via the Commission's website (http://www.prc.gov). Non-public portions of the Postal Service's request(s), if any, can be accessed through compliance with the requirements of 39 CFR 3011.301.¹

¹ See Docket No. RM2018-3, Order Adopting Final Rules Relating to Non-Public Information, June 27, 2018, Attachment A at 19-22 (Order No. 4679).

Section II identifies the docket number(s) associated with each Postal Service request, if any, that will be reviewed in a public proceeding as defined by 39 CFR 3010.101(p), the title of each such request, the request's acceptance date, and the authority cited by the Postal Service for each request. For each such request, the Commission appoints an officer of the Commission to represent the interests of the general public in the proceeding, pursuant to 39 U.S.C. 505 and 39 CFR 3000.114 (Public Representative). Section II also establishes comment deadline(s) pertaining to each such request.

The Commission invites comments on whether the Postal Service's request(s) identified in Section II, if any, are consistent with the policies of title 39. Applicable statutory and regulatory requirements include 39 U.S.C. 3632, 39 U.S.C. 3633, 39 U.S.C. 3642, 39 CFR part 3035, and 39 CFR part 3041. Comment deadline(s) for each such request, if any, appear in Section II.

Section III identifies the docket number(s) associated with each Postal Service request, if any, to add a standardized distinct product to the Competitive product list or to amend a standardized distinct product, the title of each such request, the request's acceptance date, and the authority cited by the Postal Service for each request. Standardized distinct products are negotiated service agreements that are variations of one or more Competitive products, and for which financial models, minimum rates, and classification criteria have undergone advance Commission review. See 39 CFR 3041.110(n); 39 CFR 3041.205(a). Such requests are reviewed in summary proceedings pursuant to 39 CFR 3041.325(c)(2) and 39 CFR 3041.505(f)(1). Pursuant to 39 CFR 3041.405(c)-(d), the Commission does not appoint a Public Representative or request public comment in proceedings to review such requests.

II. Public Proceeding(s)

1. Docket No(s).: MC2025-731 and K2025-730; Filing Title: USPS Request to Add Priority Mail Express, Priority Mail & USPS Ground Advantage Contract 987 to the Competitive Product List and Notice of Filing Materials Under Seal; Filing Acceptance Date: December 10, 2024; Filing Authority: 39 U.S.C. 3642, 39 CFR 3035.105, and 39 CFR 3041.310; Public Representative: Christopher Mohr; Comments Due: December 18, 2024.

2. Docket No(s).: MC2025-732 and K2025-731; Filing Title: USPS Request to Add Priority Mail Express, Priority Mail & USPS Ground Advantage Contract 988 to the Competitive Product List and Notice of Filing Materials Under Seal; Filing Acceptance Date: December 10, 2024; Filing Authority: 39 U.S.C. 3642, 39 CFR 3035.105, and 39 CFR 3041.310; Public Representative: Gregory Stanton; Comments Due: December 18, 2024.

3. Docket No(s).: MC2025-733 and K2025-732; Filing Title: USPS Request to Add Priority Mail Express, Priority Mail & USPS Ground Advantage Contract 986 to the Competitive Product List and Notice of Filing Materials Under Seal; Filing Acceptance Date: December 10, 2024; Filing Authority: 39 U.S.C. 3642, 39 CFR 3035.105, and 39 CFR 3041.310; Public Representative: Gregory Stanton; Comments Due: December 18, 2024.

4. Docket No(s).: MC2025-734 and K2025-733; Filing Title: USPS Request to Add Priority Mail Express, Priority Mail & USPS Ground Advantage Contract 989 to the Competitive Product List and Notice of Filing Materials Under Seal; Filing Acceptance Date: December 10, 2024; Filing Authority: 39 U.S.C. 3642, 39 CFR 3035.105, and 39 CFR 3041.310; Public Representative: Elsie Lee-Robbins; Comments Due: December 18, 2024.

5. Docket No(s).: MC2025-735 and K2025-734; Filing Title: USPS Request to Add Priority Mail & USPS Ground Advantage Contract 522 to the Competitive Product List and Notice of Filing Materials Under Seal; Filing Acceptance Date: December 10, 2024; Filing Authority: 39 U.S.C. 3642, 39 CFR 3035.105, and 39 CFR 3041.310; Public Representative: Jennaca Upperman; Comments Due: December 18, 2024.

6. Docket No(s).: MC2025-736 and K2025-735; Filing Title: USPS Request to Add Priority Mail & USPS Ground Advantage Contract 523 to the Competitive Product List and Notice of Filing Materials Under Seal; Filing Acceptance Date: December 10, 2024; Filing Authority: 39 U.S.C. 3642, 39 CFR 3035.105, and 39 CFR 3041.310; Public Representative: Christopher Mohr; Comments Due: December 18, 2024.

7. Docket No(s).: MC2025-737 and K2025-736; Filing Title: USPS Request to Add Priority Mail & USPS Ground Advantage Contract 524 to the Competitive Product List and Notice of Filing Materials Under Seal; Filing Acceptance Date: December 10, 2024; Filing Authority: 39 U.S.C. 3642, 39 CFR 3035.105, and 39 CFR 3041.310; Public Representative: Jennaca Upperman; Comments Due: December 18, 2024.

8. Docket No(s).: MC2025-738 and K2025-737; Filing Title: USPS Request to Add Priority Mail & USPS Ground Advantage Contract 525 to the Competitive Product List and Notice of Filing Materials Under Seal; Filing Acceptance Date: December 10, 2024; Filing Authority: 39 U.S.C. 3642, 39 CFR 3035.105, and 39 CFR 3041.310; Public Representative: Jennaca Upperman; Comments Due: December 18, 2024.

9. Docket No(s).: MC2025-739 and K2025-738; Filing Title: USPS Request to Add Priority Mail Express, Priority Mail & USPS Ground Advantage Contract 990 to the Competitive Product List and Notice of Filing Materials Under Seal; Filing Acceptance Date: December 10, 2024; Filing Authority: 39 U.S.C. 3642, 39 CFR 3035.105, and 39 CFR 3041.310; Public Representative: Elsie Lee-Robbins; Comments Due: December 18, 2024.

10. Docket No(s).: MC2025-740 and K2025-739; Filing Title: USPS Request to Add Priority Mail Express, Priority Mail & USPS Ground Advantage Contract 991 to the Competitive Product List and Notice of Filing Materials Under Seal; Filing Acceptance Date: December 10, 2024; Filing Authority: 39 U.S.C. 3642, 39 CFR 3035.105, and 39 CFR 3041.310; Public Representative: Maxine Bradley; Comments Due: December 18, 2024.

11. Docket No(s).: MC2025-741 and K2025-740; Filing Title: USPS Request to Add Priority Mail Express, Priority Mail & USPS Ground Advantage Contract 992 to the Competitive Product List and Notice of Filing Materials Under Seal; Filing Acceptance Date: December 10, 2024; Filing Authority: 39 U.S.C. 3642, 39 CFR 3035.105, and 39 CFR 3041.310; Public Representative: Elsie Lee-Robbins; Comments Due: December 18, 2024.

12. Docket No(s).: MC2025-742 and K2025-741; Filing Title: USPS Request to Add Priority Mail Express, Priority Mail & USPS Ground Advantage Contract 993 to the Competitive Product List and Notice of Filing Materials Under Seal; Filing Acceptance Date: December 10, 2024; Filing Authority: 39 U.S.C. 3642, 39 CFR 3035.105, and 39 CFR 3041.310; Public Representative: Gregory Stanton; Comments Due: December 18, 2024.

13. Docket No(s).: MC2025-743 and K2025-742; Filing Title: USPS Request to Add Priority Mail & USPS Ground Advantage Contract 526 to the Competitive Product List and Notice of Filing Materials Under Seal; Filing Acceptance Date: December 10, 2024; Filing Authority: 39 U.S.C. 3642, 39 CFR 3035.105, and 39 CFR 3041.310; Public Representative: Jennaca Upperman; Comments Due: December 18, 2024.

14. Docket No(s).: MC2025-744 and K2025-743; Filing Title: USPS Request to Add Priority Mail Express, Priority Mail & USPS Ground Advantage Contract 994 to the Competitive Product List and Notice of Filing Materials Under Seal; Filing Acceptance Date: December 10, 2024; Filing Authority: 39 U.S.C. 3642, 39 CFR 3035.105, and 39 CFR 3041.310; Public Representative: Maxine Bradley; Comments Due: December 18, 2024.

15. Docket No(s).: MC2025-745 and K2025-744; Filing Title: USPS Request to Add Priority Mail Express, Priority Mail & USPS Ground Advantage Contract 995 to the Competitive Product List and Notice of Filing Materials Under Seal; Filing Acceptance Date: December 10, 2024; Filing Authority: 39 U.S.C. 3642, 39 CFR 3035.105, and 39 CFR 3041.310; Public Representative: Almaroof Agoro; Comments Due: December 18, 2024.

16. Docket No(s).: MC2025-746 and K2025-745; Filing Title: USPS Request to Add Priority Mail Express, Priority Mail & USPS Ground Advantage Contract 996 to the Competitive Product List and Notice of Filing Materials Under Seal; Filing Acceptance Date: December 10, 2024; Filing Authority: 39 U.S.C. 3642, 39 CFR 3035.105, and 39 CFR 3041.310; Public Representative: Samuel Robinson; Comments Due: December 18, 2024.

17. Docket No(s).: MC2025-747 and K2025-746; Filing Title: USPS Request to Add Priority Mail Express, Priority Mail & USPS Ground Advantage Contract 997 to the Competitive Product List and Notice of Filing Materials Under Seal; Filing Acceptance Date: December 10, 2024; Filing Authority: 39 U.S.C. 3642, 39 CFR 3035.105, and 39 CFR 3041.310; Public Representative: Samuel Robinson; Comments Due: December 18, 2024.

18. Docket No(s).: MC2025-748 and K2025-747; Filing Title: USPS Request to Add Priority Mail Express, Priority Mail & USPS Ground Advantage Contract 998 to the Competitive Product List and Notice of Filing Materials Under Seal; Filing Acceptance Date: December 10, 2024; Filing Authority: 39 U.S.C. 3642, 39 CFR 3035.105, and 39 CFR 3041.310; Public Representative: Almaroof Agoro; Comments Due: December 18, 2024.

19. Docket No(s).: MC2025-749 and K2025-748; Filing Title: USPS Request to Add Priority Mail Express, Priority Mail & USPS Ground Advantage Contract 999 to the Competitive Product List and Notice of Filing Materials Under Seal; Filing Acceptance Date: December 10, 2024; Filing Authority: 39 U.S.C. 3642, 39 CFR 3035.105, and 39 CFR 3041.310; Public Representative: Katalin Clendenin; Comments Due: December 18, 2024.

20. Docket No(s).: MC2025-750 and K2025-749; Filing Title: USPS Request to Add Priority Mail Express, Priority Mail & USPS Ground Advantage Contract 1000 to the Competitive Product List and Notice of Filing Materials Under Seal; Filing Acceptance Date: December 10, 2024; Filing Authority: 39 U.S.C. 3642, 39 CFR 3035.105, and 39 CFR 3041.310; Public Representative: Almaroof Agoro; Comments Due: December 18, 2024.

21. Docket No(s).: MC2025-751 and K2025-750; Filing Title: USPS Request to Add Priority Mail Express, Priority Mail & USPS Ground Advantage Contract 1001 to the Competitive Product List and Notice of Filing Materials Under Seal; Filing Acceptance Date: December 10, 2024; Filing Authority: 39 U.S.C. 3642, 39 CFR 3035.105, and 39 CFR 3041.310; Public Representative: Christopher Mohr; Comments Due: December 18, 2024.

22. Docket No(s).: MC2025-752 and K2025-751; Filing Title: USPS Request to Add Priority Mail Express, Priority Mail & USPS Ground Advantage Contract 1002 to the Competitive Product List and Notice of Filing Materials Under Seal; Filing Acceptance Date: December 10, 2024; Filing Authority: 39 U.S.C. 3642, 39 CFR 3035.105, and 39 CFR 3041.310; Public Representative: Katalin Clendenin; Comments Due: December 18, 2024.

23. Docket No(s).: MC2025-753 and K2025-752; Filing Title: USPS Request to Add Priority Mail Express, Priority Mail & USPS Ground Advantage Contract 1003 to the Competitive Product List and Notice of Filing Materials Under Seal; Filing Acceptance Date: December 10, 2024; Filing Authority: 39 U.S.C. 3642, 39 CFR 3035.105, and 39 CFR 3041.310; Public Representative: Maxine Bradley; Comments Due: December 18, 2024.

24. Docket No(s).: MC2025-754 and K2025-753; Filing Title: USPS Request to Add Priority Mail Express, Priority Mail & USPS Ground Advantage Contract 1004 to the Competitive Product List and Notice of Filing Materials Under Seal; Filing Acceptance Date: December 10, 2024; Filing Authority: 39 U.S.C. 3642, 39 CFR 3035.105, and 39 CFR 3041.310; Public Representative: Samuel Robinson; Comments Due: December 18, 2024.

25. Docket No(s).: MC2025-755 and K2025-754; Filing Title: USPS Request to Add Priority Mail Express, Priority Mail & USPS Ground Advantage Contract 1005 to the Competitive Product List and Notice of Filing Materials Under Seal; Filing Acceptance Date: December 10, 2024; Filing Authority: 39 U.S.C. 3642, 39 CFR 3035.105, and 39 CFR 3041.310; Public Representative: Almaroof Agoro; Comments Due: December 18, 2024.

26. Docket No(s).: MC2025-756 and K2025-755; Filing Title: USPS Request to Add Priority Mail Express, Priority Mail & USPS Ground Advantage Contract 1006 to the Competitive Product List and Notice of Filing Materials Under Seal; Filing Acceptance Date: December 10, 2024; Filing Authority: 39 U.S.C. 3642, 39 CFR 3035.105, and 39 CFR 3041.310; Public Representative: Elsie Lee-Robbins; Comments Due: December 18, 2024.

27. Docket No(s).: MC2025-757 and K2025-756; Filing Title: USPS Request to Add Priority Mail Express, Priority Mail & USPS Ground Advantage Contract 1007 to the Competitive Product List and Notice of Filing Materials Under Seal; Filing Acceptance Date: December 10, 2024; Filing Authority: 39 U.S.C. 3642, 39 CFR 3035.105, and 39 CFR 3041.310; Public Representative: Christopher Mohr; Comments Due: December 18, 2024.

28. Docket No(s).: MC2025-758 and K2025-757; Filing Title: USPS Request to Add Priority Mail Express, Priority Mail & USPS Ground Advantage Contract 1008 to the Competitive Product List and Notice of Filing Materials Under Seal; Filing Acceptance Date: December 10, 2024; Filing Authority: 39 U.S.C. 3642, 39 CFR 3035.105, and 39 CFR 3041.310; Public Representative: Katalin Clendenin; Comments Due: December 18, 2024.

III. Summary Proceeding(s)

None. See Section II for public proceedings.

This Notice will be published in the Federal Register.

Mallory S. Richards,
Federal Register Liaison.

[FR Doc. 2024-29648 Filed 12-16-24; 8:45 am]

BILLING CODE 7710-FW-P